DEPARTMENT OF COMMERCE

Bureau of the Census

15 CFR Part 50

[Docket No. 040408109-4209-02]

RIN 0607-AA41

Amendment to the Age Search Fee Structure

AGENCY: Bureau of the Census, Department of Commerce.

ACTION: Final rule.

SUMMARY: The Bureau of the Census (Census Bureau) is amending the Code of Federal Regulations (CFR), to increase the fee for conducting an Age Search from $40.00 to $65.00. The Census Bureau also is adding an additional charge of $20.00 per case for expedited requests requiring search results within one day. These changes are being made to recover the increase in operating costs associated with processing an Age Search request.

EFFECTIVE DATE: This rule is effective on August 30, 2004.

FOR FURTHER INFORMATION CONTACT: Eileen Little, Chief, Survey Processing Branch, National Processing Center, U.S. Census Bureau, 1201 East 10th Street, Building 64C, Jeffersonville, IN 47132, by telephone at (812) 218-3796 or by fax at (812) 218-3081.

SUPPLEMENTARY INFORMATION

Background

The age and citizenship searching service is a self-supporting operation of the Census Bureau, conducted in accordance with Title 13, United States Code (U.S.C.), Section 8(a). Under this statute, all expenses incurred in the retrieval of personal information from decennial census records and the preparation of census transcripts are covered by fees paid by individuals who request this service. The Age Search census transcript provides proof of age to qualify individuals for social security or other retirements benefits, proof of citizenship to obtain passports, proof of family relationships for rights of inheritance, or to satisfy other situations where a birth certificate is required but not available. Individuals request the Age Search service to qualify for social security/retirement benefits, obtain passports, documentation for court litigation or insurance settlements, and genealogical research. The 1910 through 2000 censuses in custody of the Census Bureau are confidential and protected from disclosure by Title 13, U.S.C., Section 9. No transcript of any record will be furnished that would violate statutes requiring that information furnished to the Census Bureau be held confidential and not used to the detriment of the person to whom it relates.

On April 30, 2004, the Census Bureau published in the Federal Register (69 FR 23700) a notice of proposed rulemaking and request for comments on this subject. The Census Bureau did not receive any comments on that notice and therefore the proposed rule is adopted as final.

Program Requirements

There has not been an Age Search fee increase since February 1, 1993. Due to an increase in operating costs over this 11-year period and in order to help maintain the self-supporting financial status, the Census Bureau is making the following amendment to 15 CFR 50:

• Amend Section 50.5 to update the fee structure and add a fee charge for expedited requests. The Census Bureau is increasing the fee structure from $40.00 to $65.00 on searches of one census for one person and one transcript. The Census Bureau also is adding an additional charge of $20.00 per case for expedited requests requiring search results within one day. The additional $20.00 charge for expedited cases represents the estimated cost to the Census Bureau for this service.

Regulatory Flexibility Act

The Chief Counsel for Regulation of the Department of Commerce certified to the Chief Counsel for Advocacy of the Small Business Administration that this rule would not have a significant economic impact on a substantial number of small entities. Most, if not all, respondents affected by the fee increase are individuals, not small or large businesses. No comments were received on the certification therefore a final regulatory flexibility analysis was not required or prepared.

Executive Orders

This rule has been determined to be not significant for purposes of Executive Order 12866. This rule does not contain policies with federalism implications as that term is defined in Executive Order 13132.

Paperwork Reduction Act

Notwithstanding any other provision of law, no person is required to respond to, nor shall a person be subject to a penalty for failure to comply with, a collection of information subject to the requirements of the Paperwork Reduction Act unless that collection of information displays a current Office of Management and Budget (OMB) control number. On July 1, 2004, OMB cleared the form used to request age searches (Form BC-600), and the associated increase in fee structure, under OMB Control Number 0607-0117. This clearance addresses increasing the fee structure from $40.00 to $65.00 on searches of one census for one person and one transcript, and adding an additional charge of $20.00 per case for expedited requests requiring search results within one day.

List of Subjects in 15 CFR Part 50

Census data, Population census, Statistics.

For reasons set out in the preamble, Part 50 is amended as follows:

PART 50—SPECIAL SERVICES AND STUDIES BY THE BUREAU OF THE CENSUS

1. The authority citation for 15 CFR Part 50 is revised to read as follows:

Authority: 15 U.S.C. 1525-1527 and 13 U.S.C. 3 and 8.

2. Revise § 50.5 to read as follows:

§ 50.5 Fee structure for age search and citizenship information.

Type of service | Fee
Searches of one census for one person and one transcript | $65.00
Each additional copy of census transcript | 2.00
¹ Each full schedule requested | 10.00
¹ The $10.00 for each full schedule requested is in addition to the $65.00 transcript fee.

Note: An additional charge of $20.00 per case is charged for expedited requests requiring search results within one day.

Dated: July 27, 2004.
Charles Louis Kincannon,
Director, Bureau of the Census.

[FR Doc. 04-17359 Filed 7-29-04; 8:45 am]

BILLING CODE 3510-07-P